DEPARTMENT OF THE INTERIOR

Bureau of Land Management

[ES-960-1430-BJ ES-052327, Group No. 25, Mississippi]

Eastern States: Filing of Plat of Survey

AGENCY: Bureau of Land Management, Interior.

ACTION: Notice of filing of plat of survey; Mississippi.

SUMMARY: The Bureau of Land Management (BLM) will file the plat of survey of the lands described below in the BLM-Eastern States, Springfield, Virginia, 30 calendar days from the date of publication in the Federal Register.

FOR FURTHER INFORMATION CONTACT: Bureau of Land Management, 7450 Boston Boulevard, Springfield, Virginia 22153. Attn: Cadastral Survey.

SUPPLEMENTARY INFORMATION: This survey was requested by the Bureau of Indian Affairs.

The lands we surveyed are:

Choctaw Meridian, Mississippi

T. 12 N., R. 13 E.

The plat of survey represents the dependent resurvey of a portion of the east boundary, a portion of the subdivisional lines, the survey of the subdivision of section 12 and the metes and bounds survey of the Choctaw Indian Reservation boundary in section 12 in Township 12 North, Range 13 East, Choctaw Meridian, Mississippi, and was accepted on August 19, 2004.

We will place a copy of the plat we described in the open files. It will be made available to the public as a matter of information.

Date: August 19, 2004.
Stephen D. Douglas,
Chief Cadastral Surveyor.

[FR Doc. 04-22808 Filed 10-8-04; 8:45 am]

BILLING CODE 4310-GJ-P